DEPARTMENT OF COMMERCE

National Oceanic and Atmospheric Administration

National Marine Sanctuaries System (NMS)

AGENCY: Marine Sanctuaries Division (MSD, Office of Ocean and Coastal Resource Management (OCRM), National Ocean Service (NOS), National Oceanic and Atmospheric Administration (NOAA), Department of Commerce (DOC).

ACTION: Notice of Intent to Prepare a Programmatic Environmental Impact Statement.

SUMMARY: The Marine Sanctuaries Division (MSD) of the Office of Ocean and Coastal Resource Management intends to prepare a Programmatic Environmental Impact Statement (PEIS). The PEIS will describe and address physical injury to, loss of and destruction of coral and biotic reef communities that result from anthropogenic activities, such as vessel groundings and anchoring within the National Marine Sanctuaries. The PEIS will also describe and characterize the different approaches and methodologies that may be implemented to restore, replace or acquire the equivalent of such injured, destroyed or lost resources.

MSD is publishing this notice in the Federal Register in order to advise other agencies and the public of its intent to prepare a PEIS and to obtain suggestions and information on the scope of issues to include in the document.

DATES: Written comments from all interested parties must be received on or before March 22, 2000. A scoping meeting will be held in the spring of 2000, and a Draft PEIS is expected by fall/winter of 2000. The Final PEIS is expected to be completed by the winter of 2001.

ADDRESSES: Written comments and requests for information should be sent to Lisa Symons, NOAA/Marine Sanctuaries Division, 1305 East-West Highway, #11535, Silver Spring, MD 20910, phone (310) 713-3145, ext: 108, email Lisa.Symons@noaa.gov.

Comments and materials received in response to this notice will be available for public inspection, by appointment, at the aforementioned address.

SUPPLEMENTARY INFORMATION: The National Marine Sanctuary System was established under the National Marine Sanctuaries Act (NMSA; also known as title III of the Marine Protection, Research and Sanctuaries Act), 16 U.S.C. 1431 et seq. The NMSA authorizes the Secretary of Commerce to identify and designate certain areas of the marine environment which are of special national significance as National Marine Sanctuaries, and provides authority for comprehensive and coordinated conservation and management of these marine areas, and activities affecting them, in a manner that complements existing regulatory authorities. Further, section 312 of the NMSA provides that any person who destroys, causes the loss of, or injures any sanctuary resource is liable to the United States for response costs and damages. Monies received are used to reimburse the Secretary for response actions and damage assessments and to fund the restoration, replacement, or acquisition of the equivalent of injured, destroyed, or lost Sanctuary resources.

As a part of its mission to protect and manage the ecological, historical, educational, recreational, and aesthetic qualities of the National Marine Sanctuaries, MSD will prepare a Reef Restoration PEIS. It is MSD's intent to prepare this PEIS such that a tiered process can be used in the preparation of future environmental documents concerning restoration actions within National Marine Sanctuaries. The PEIS, among other things, will set forth methodologies and guidelines for restoration actions arising out of injuries to sanctuary resources. Accordingly, the PEIS will facilitate the development of both subsequent environmental assessments (EAs) and individual restoration plans designed to restore sanctuary resources.

MSD intends to hold a public scoping meeting prior to the preparation of the Draft PEIS for those persons and/or organizations interested in the development of the Draft PEIS. MSD will also hold a public meeting, which will be held concurrent with the public comment period to accept comments on the Draft PEIS. Notice of these meetings will be published in the Federal Register. All substantive comments provided, both written and oral, at the public meeting, will be considered in the preparation of the Final PEIS and will become part of the public record (i.e., names, addresses, letters of comment, comment provided during public meetings).

Comments and suggestions are invited from all interested parties to ensure that the full range of issues related to this proposed action and all significant issues are identified. Comments and/or questions concerning the preparation of this PEIS should be directed to the MSD at the address or phone listed above.

Dated: February 11, 2000.
Capt. Ted Lillestolen,
Deputy Assistant Administrator for Ocean Services and Coastal Zone Management.

[FR Doc. 00-3771 Filed 2-16-00; 8:45 am]

BILLING CODE 3510-08-M